FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 011550-015.

Title: ABC Discussion Agreement.

Parties: Hamburg-Süd, King Ocean Services Limited, Seaboard Marine, Ltd.; and Crowley Caribbean Services, LLC.

Filing Party: Wayne R. Rohde, Esq.; Cozen O'Connor; 1200 19th Street NW., Washington, DC 20036.

Synopsis: The amendment adds a new Article 13 suspending authority with respect to Curacao, deletes Seafreight Line as a party, and corrects the Agreement's table of contents.

Agreement No.: 012489.

Title: CMA CGM/Marinex Cargo Line U.S. Virgin Islands—Saint Maarten Service Space Charter Agreement.

Parties: CMA CGM S.A. and Marinex Cargo Line Inc.

Filing Party: Draughn Arbona; CMA CGM (America) LLC; 5701 Lake Wright Drive; Norfolk, VA 23502.

Synopsis: The Agreement authorizes Marinex Cargo Line to charter space to CMA CGM in the trade between the U.S. Virgin Islands and Saint Maarten.

By Order of the Federal Maritime Commission.
Dated: August 25, 2017.
Rachel E. Dickon,
Assistant Secretary.

[FR Doc. 2017-18413 Filed 8-29-17; 8:45 am]

BILLING CODE 6731-AA-P